NATIONAL COUNCIL ON DISABILITY

Sunshine Act Meetings

Type: Quarterly Meeting.

Dates and Times:

July 24, 2007, 8:30 a.m.-3:30 p.m.

July 25, 2007, 8:30 a.m.-3 p.m.

July 26, 2007, 9 a.m.-4 p.m.

Location: Crowne Plaza Hotel Metro, 733 West Madison, Chicago, Illinois.

Status:

July 24, 2007, 8:30 a.m.-3:30 p.m.—Open.

July 25, 2007, 8:30 a.m.-3 p.m.—Open.

July 26, 2007, 8 a.m.-9:00 a.m.—Closed.

July 26, 2007, 9 a.m.-4 p.m.—Open.

Agenda: Public Comment Sessions; Livable Communities/Mental Health Best Practices Panel Presentation; Emergency Preparedness Panel Presentation; Reports from the Chairperson, Council Members, and the Executive Director; Strategic Planning; Budget Planning; ADA Reports Release News Conference; Unfinished Business; New Business; Announcements; Adjournment.

Sunshine Act Meeting Contact: Mark S. Quigley, Director of Communications, NCD, 1331 F Street, NW., Suite 850, Washington, DC 20004; 202-272-2004 (voice), 202-272-2074 (TTY), 202-272-2022 (fax).

Agency Mission: NCD is an independent Federal agency and is composed of 15 members appointed by the President, by and with the advice and consent of the Senate. NCD provides advice to the President, Congress, and executive branch agencies promoting policies, programs, practices, and procedures that (A) guarantee equal opportunity for all individuals with disabilities, regardless of the nature or severity of the disability; and (B) empower individuals with disabilities to achieve economic self-sufficiency, independent living, and inclusion and integration into all aspects of society.

Accommodations: Those needing reasonable accommodations should notify NCD immediately.

Language Translation: In accordance with E.O. 13166, Improving Access to Services for Persons with Limited English Proficiency, those people with disabilities who are limited English proficient and seek translation services for these meetings should notify NCD immediately.

Dated: July 12, 2007.
Michael C. Collins,
Executive Director.

[FR Doc. 07-3484 Filed 7-13-07; 11:08 am]

BILLING CODE 6820-MA-M